DEPARTMENT OF COMMERCE

Foreign-Trade Zones Board

[B-63-2015]

Foreign-Trade Zone (FTZ) 33—Pittsburgh, Pennsylvania; Authorization of Production Activity; DNP Imagingcomm America Corporation, Subzone 33E (Thermal Transfer Ribbon Master Rolls), Mount Pleasant, Pennsylvania

On September 4, 2015, DNP Imagingcomm America Corporation (DNP), operator of Subzone 33E, submitted a notification of proposed production activity to the Foreign-Trade Zones (FTZ) Board for its facility within Subzone 33E, in Mount Pleasant, Pennsylvania.

The notification was processed in accordance with the regulations of the FTZ Board (15 CFR part 400), including notice in the Federal Register inviting public comment (80 FR 57785, September 25, 2015). The FTZ Board has determined that no further review of the proposed activity is warranted at this time. The production activity described in the notification is authorized, subject to the FTZ Act and the Board's regulations, including Section 400.14, and further subject to a restriction requiring that all foreign-status polyethylene terephthalate (PET) film subject to an antidumping/countervailing duty (AD/CVD) order, proceeding, or suspension of liquidation under AD/CVD procedures admitted for DNP's production activity be re-exported (entry for U.S. consumption is not allowed for thermal transfer ribbon master rolls made from PET film subject to an AD/CVD order, proceeding, or suspension of liquidation under AD/CVD procedures). Activity beyond this scope of authority would require further authorization from the FTZ Board.

Dated: January 4, 2016.
Andrew McGilvray,
Executive Secretary.

[FR Doc. 2016-00364 Filed 1-8-16; 8:45 am]

BILLING CODE 3510-DS-P